NATIONAL TRANSPORTATION SAFETY BOARD

Sunshine Act Meeting

Time: 9:30 a.m., Tuesday, August 3, 2004.

Place: NTSB Conference Center, 429 L'Enfant Plaza SW., Washington, DC 20594.

Status: The two items are Open to the public.

Matters to be Considered:

7649 Highway Accident Report—Rear-end Collision and Subsequent Vehicle Intrusion into Pedestrian Space at Certified Farmers' Market, Santa Monica, California, July 16, 2003.

6413C Proposed Disposition of A-95-51—Safety Recommendation to the Federal Aviation Administration (FAA) to Require that All Occupants in Airplanes be Restrained.

News Media Contact: Telephone (202) 314-6100

Individuals requesting specific accommodations should contact Ms. Carolyn Dargan at (202) 314-6305 by Friday, July 30, 2004.

The public may view the meeting via a live or archived webcast by accessing a link under “News & Events” on the NTSB home page at www.ntsb.gov.

FOR FURTHER INFORMATION CONTACT: Vicky D'Onofrio, (202) 314-6410.

Dated: July 23, 2004.
Vicky D'Onofrio,
Federal Register Liaison Officer.

[FR Doc. 04-17181 Filed 7-23-04; 1:41 pm]

BILLING CODE 7533-01-M